DEPARTMENT OF HOMELAND SECURITY

Federal Emergency Management Agency

44 CFR Part 67

[Docket ID FEMA-2010-0003; Internal Agency Docket No. FEMA-B-1166]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before March 29, 2011.

ADDRESSES: The corresponding preliminary Flood Insurance Rate Map (FIRM) for the proposed BFEs for each community is available for inspection at the community's map repository. The respective addresses are listed in the table below.

You may submit comments, identified by Docket No. FEMA-B-1166, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Levy County, Florida, and Incorporated Areas
Bronson North Ditch | At Ifshie Avenue | None | +55 | Town of Bronson, Unincorporated Areas of Levy County.
| Approximately 0.4 mile upstream of U.S. Route 27A | None | +57
Bronson South Ditch | Just upstream of Lime Rock Road | None | +59 | Town of Bronson, Unincorporated Areas of Levy County.
| Approximately 600 feet upstream of West Main Street | None | +60
Long Pond | At Levy County Route 345 | None | +27 | City of Chiefland, Unincorporated Areas of Levy County.
| Just downstream of Northwest 60th Street | None | +28
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Chiefland
Maps are available for inspection at City Hall, 214 East Park Avenue, Chiefland, FL 32626.
Town of Bronson
Maps are available for inspection at the Town Hall, 650 Oak Street, Bronson, FL 32621.
Unincorporated Areas of Levy County
Maps are available for inspection at the Levy County Building Department, 9010 Northeast 79th Street, Bronson, FL 32621.
Huntingdon County, Pennsylvania (All Jurisdictions)
Crooked Creek | Approximately 0.88 mile downstream of Beaver Lane | None | +628 | Township of Walker.
| Approximately 0.70 mile downstream of Beaver Lane | None | +633
Hares Valley Creek | Approximately 800 feet downstream of Pennsylvania Railroad | None | +586 | Township of Union.
| Approximately 500 feet upstream of Pennsylvania Railroad | None | +586
Hill Valley Creek | Approximately 240 feet downstream of Norfolk Southern Railroad | None | +555 | Township of Shirley.
| Approximately 90 feet upstream of Norfolk Southern Railroad | None | +555
Juniata River | Approximately 0.39 mile downstream of Bridge Street | None | +584 | Township of Union.
| Approximately 1,670 feet downstream of Bridge Street | None | +584
Juniata River | Approximately 0.75 mile downstream of North Jefferson Street | None | +569 | Township of Brady, Township of Shirley.
| Approximately 0.53 mile downstream of North Jefferson Street | None | +569
Juniata River | Just upstream of U.S. Route 22 (William Penn Highway) | +612 | +613 | Township of Henderson, Township of Smithfield.
| Approximately 200 feet upstream of U.S. Route 22 (William Penn Highway) | +613 | +614
Juniata River | Approximately 2 miles downstream of the confluence with Shaver Creek | None | +671 | Township of Logan.
| Approximately 140 feet downstream of the confluence with Shaver Creek | None | +674
Juniata River | Approximately 1.72 miles upstream of Bridge Street (Cypress Island Bridge) | None | +638 | Township of Porter.
| Approximately 1.78 miles upstream of Bridge Street (Cypress Island Bridge) | None | +638
Little Juniata River | Approximately 1,450 feet upstream of Norfolk Southern Railroad | None | +847 | Borough of Birmingham.
| Approximately 0.52 mile upstream of Norfolk Southern Railroad | None | +848
Little Juniata River | Approximately 440 feet downstream of the Pemberton Road Bridge | None | +797 | Township of Spruce Creek.
| Approximately 300 feet downstream of Birmingham Pike (Railroad Bridge) | None | +813
Murray Run | Approximately 280 feet downstream of Murray Run Road | None | +691 | Township of Henderson.
| Approximately 170 feet downstream of Murray Run Road | None | +691
Standing Stone Creek | Approximately 1.57 miles downstream of Stone Creek Ridge Road | None | +661 | Township of Oneida.
| Approximately 1.55 miles downstream of Stone Creek Ridge Road | None | +661
Three Springs Creek | Approximately 800 feet downstream of Hudson Street | None | +700 | Borough of Three Springs.
| Approximately 800 feet upstream of Elliots Run Road | None | +713
Unnamed Tributary to Shoup Run | Approximately 400 feet upstream of Broad Top Mountain Road | None | +1139 | Township of Carbon.
| Approximately 520 feet upstream of Broad Top Mountain Road | None | +1142
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Borough of Birmingham
Maps are available for inspection at the Borough Building, 2450 Tyrone Street, Birmingham, PA 16686.
Borough of Three Springs
Maps are available for inspection at the Borough Building, 8444 Hudson Street, Three Springs, PA 17264.
Township of Brady
Maps are available for inspection at the Brady Township Building, 11311 Beatty Road, Mill Creek, PA 17060.
Township of Carbon
Maps are available for inspection at the Carbon Township Building, 20188 Little Valley Road, Saxton, PA 16678.
Township of Henderson
Maps are available for inspection at the Henderson Township Building, 9024 Sugar Grove Road, Huntingdon, PA 16652.
Township of Logan
Maps are available for inspection at the Logan Township Building, 7228 Diamond Valley, Alexandria, PA 16611.
Township of Oneida
Maps are available for inspection at the Oneida Township Building, 9775 Blair Road, Huntingdon, PA 16652.
Township of Porter
Maps are available for inspection at the Porter Township Building, 7551 Bridge Street, Alexandria, PA 16611.
Township of Shirley
Maps are available for inspection at the Shirley Township Building, 15480 Croghan Pike, Shirleysburg, PA 17260.
Township of Smithfield
Maps are available for inspection at the Smithfield Township Building, 202 South 13th Street, Suite. 3, Huntingdon, PA 16652.
Township of Spruce Creek
Maps are available for inspection at the Spruce Creek Township Building, 4602 Eden Road, Tyrone, PA 16686.
Township of Union
Maps are available for inspection at the Union Township Building, 14129 Trough Creek Valley Pike, Huntingdon, PA 16652.
Township of Walker
Maps are available for inspection at the Walker Township Building, 5568 Bouquet Street, McConnellstown, PA 16660.
Clark County, Washington, and Incorporated Areas
Burnt Bridge Creek | Just upstream of I-205 | +193 | +192 | City of Vancouver, Unincorporated Areas of Clark County.
| Approximately 1,056 feet upstream of Northeast 152nd Street | None | +200
China Ditch | Just upstream of Northeast Ward Road | None | +252 | Unincorporated Areas of Clark County.
| Approximately 0.4 mile upstream of Northeast 144th Street | None | +275
Curtin Creek | At the confluence with Salmon Creek | +174 | +172 | Unincorporated Areas of Clark County.
| Approximately 700 feet upstream of Anderson Road | None | +260
Dead Lake | Entire shoreline within community | None | +191 | City of Camas, Unincorporated Areas of Clark County.
Fifth Plain Creek | At the confluence with Lacamas Creek | None | +208 | City of Vancouver, Unincorporated Areas of Clark County.
| Approximately 0.7 mile upstream of Northeast Davis Road | None | +342
Gee Creek | Just downstream of Burlington Northern Santa Fe Railroad | +29 | +27 | City of Ridgefield, Unincorporated Areas of Clark County.
| Approximately 0.5 mile upstream of I-5 | None | +315
Lacamas Creek | Just downstream of Northeast 3rd Avenue | None | +35 | City of Camas, Unincorporated Areas of Clark County.
| Approximately 1.3 miles upstream of Northeast 3rd Avenue | None | +163
| Approximately 1 mile downstream of Northeast Goodwin Road | None | +191
| Approximately 0.5 mile upstream of Northeast 217th Avenue | None | +281
Lake Lacamas | Entire shoreline within community | None | +191 | City of Camas, Unincorporated Areas of Clark County.
Mill Creek | At the confluence with Salmon Creek | +138 | +137 | City of Battle Ground, Unincorporated Areas of Clark County.
| Just downstream of Northwest 20th Avenue | None | +279
Packard Creek | Approximately 375 feet downstream of Northwest 179th Street | None | +66 | Unincorporated Areas of Clark County.
| Approximately 1,040 feet upstream of Northwest 11th Avenue | None | +290
Padden Creek | Approximately 460 feet downstream of Northeast 83rd Street | None | +214 | Unincorporated Areas of Clark County.
| Approximately 160 feet upstream of Northeast 88th Street | None | +228
Round Lake | Entire shoreline within community | None | +191 | City of Camas, Unincorporated Areas of Clark County.
Salmon Creek | At the confluence with Weaver Creek | +211 | +210 | City of Battle Ground, Unincorporated Areas of Clark County.
| Just upstream of Risto Road | None | +363
Spring Branch Creek | At the confluence with Lacamas Creek | +200 | +198 | Unincorporated Areas of Clark County.
| Approximately 1.25 miles upstream of the confluence with Lacamas Creek | +202 | +200
Weaver Creek | Approximately 320 feet upstream of Northeast 169th Street | None | +215 | City of Battle Ground, Unincorporated Areas of Clark County.
| Approximately 1.1 miles upstream of Northeast 152nd Avenue | None | +345
Whipple Creek | Just downstream of Northwest Krieger Road | None | +28 | Unincorporated Areas of Clark County.
| Approximately 0.8 mile upstream of Northeast 179th Street | None | +241
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Battle Ground
Maps are available for inspection at 109 Southwest 1st Street, Battle Ground, WA 98604.
City of Camas
Maps are available for inspection at 616 Northeast 4th Avenue, Camas, WA 98607.
City of Ridgefield
Maps are available for inspection at 230 Pioneer Street, Ridgefield, WA 98642.
City of Vancouver
Maps are available for inspection at 210 East 13th Street, Vancouver, WA 98668.
Unincorporated Areas of Clark County
Maps are available for inspection at 1300 Franklin Street, Vancouver, WA 98668.
Preston County, West Virginia, and Incorporated Areas
Back Run | At the confluence with Deckers Creek | None | +1698 | Unincorporated Areas of Preston County.
| Approximately 1,670 feet upstream of the confluence with Deckers Creek | None | +1702
Barnes Run | At the confluence with Cherry Run | None | +1702 | Unincorporated Areas of Preston County.
| Approximately 450 feet upstream of State Route 26 | None | +2075
Barnes Run Tributary 2 | At the confluence with Barnes Run | None | +1750 | Unincorporated Areas of Preston County.
| Approximately 0.9 mile upstream of the confluence with Barnes Run | None | +1976
Big Sandy Creek | Approximately 310 feet downstream of the confluence of Glade Run | None | +1507 | Town of Brandonville, Unincorporated Areas of Preston County.
| Approximately 300 feet upstream of County Highway 4/2 | None | +1550
Big Sandy Creek Tributary 1 | At the confluence with Big Sandy Creek | None | +1530 | Unincorporated Areas of Preston County.
| Approximately 0.9 mile upstream of County Highway 8 | None | +1791
Bull Run | Approximately 580 feet upstream of the confluence with Cheat River | None | +923 | Unincorporated Areas of Preston County.
| Approximately 420 feet upstream of County Highway 21 | None | +1419
Bull Run Tributary 1 | At the confluence with Bull Run | None | +1325 | Unincorporated Areas of Preston County.
| Approximately 1.4 miles upstream of County Highway 21/2 | None | +1743
Cheat River | Approximately 1.9 miles downstream of the Albright Power Plant Dam | None | +1198 | Town of Rowlesburg, Unincorporated Areas of Preston County.
| At the Tucker County boundary | None | +1483
Cherry Run | Approximately 250 feet downstream of the confluence of Barnes Run | None | +1699 | Unincorporated Areas of Preston County.
| Approximately 1.8 miles upstream of County Highway 5/2 | None | +2272
Cherry Run Tributary 1 | At the confluence with Cherry Run | None | +1969 | Unincorporated Areas of Preston County.
| Approximately 1,560 feet downstream of County Highway 5 | None | +2069
Cherry Run Tributary 2 | At the confluence with Cherry Run | None | +1972 | Unincorporated Areas of Preston County.
| Approximately 0.8 mile upstream of the confluence with Cherry Run Tributary 2A | None | +2099
Cherry Run Tributary 2A | At the confluence with Cherry Run Tributary 2 | None | +2045 | Unincorporated Areas of Preston County.
| Approximately 0.5 mile upstream of the confluence with Cherry Run Tributary 2 | None | +2091
Cherry Run Tributary 3 | At the confluence with Cherry Run | None | +2017 | Unincorporated Areas of Preston County.
| Approximately 1.1 miles upstream of the confluence with Cherry Run | None | +2236
Deckers Creek | At the downstream Monongalia County boundary | None | +1488 | Town of Masontown, Town of Rowlesburg, Unincorporated Areas of Preston County.
| At the upstream Monongalia County boundary | None | +1861
Deckers Creek Tributary 1 | At the confluence with Deckers Creek | None | +1709 | Unincorporated Areas of Preston County.
| Approximately 300 feet upstream of Zinn Chapel Road | None | +1741
Dillan Creek | At the confluence with Deckers Creek | None | +1701 | Unincorporated Areas of Preston County.
| Approximately 0.8 mile upstream of Dillan Creek Road | None | +1749
Dillan Creek Tributary 1 | At the confluence with Dillan Creek | None | +1701 | Unincorporated Areas of Preston County.
| Approximately 0.9 mile upstream of County Highway 7/4 | None | +1831
Dillan Creek Tributary 2 | At the confluence with Dillan Creek | None | +1701 | Unincorporated Areas of Preston County.
| Approximately 1.9 miles upstream of the confluence with Dillan Creek | None | +1919
Glade Run | At the confluence with Big Sandy Creek | None | +1508 | Unincorporated Areas of Preston County.
| Approximately 1.7 miles upstream of County Highway 6 | None | +1814
Glade Run East | At the confluence with Big Sandy Creek | None | +1531 | Unincorporated Areas of Preston County.
| Approximately 960 feet upstream of County Highway 26/63 | None | +2202
Glade Run Tributary 1 | At the confluence with Glade Run | None | +1655 | Unincorporated Areas of Preston County.
| Approximately 0.5 mile upstream of County Highway 6/1 | None | +1716
Glade Run Tributary 2 | At the confluence with Glade Run | None | +1667 | Unincorporated Areas of Preston County.
| Approximately 0.6 mile upstream of County Highway 6/1 | None | +1834
Hog Run | At the confluence with Cherry Run | None | +1838 | Unincorporated Areas of Preston County.
| Approximately 0.8 mile upstream of the confluence with Hog Run Tributary 3 | None | +2062
Hog Run Tributary 1 | At the confluence with Hog Run | None | +2019 | Unincorporated Areas of Preston County.
| Approximately 1,830 feet upstream of State Route 26 | None | +2077
Hog Run Tributary 2 | At the confluence with Hog Run | None | +2036 | Unincorporated Areas of Preston County.
| Approximately 1,820 feet upstream of State Route 26 | None | +2061
Hog Run Tributary 3 | At the confluence with Hog Run | None | +2040 | Unincorporated Areas of Preston County.
| Approximately 1,190 feet upstream of State Route 26 | None | +2082
Kanes Creek | At the confluence with Deckers Creek | None | +1701 | Town of Reedsville, Unincorporated Areas of Preston County.
| Approximately 0.6 mile upstream of County Highway 56 | None | +1781
Little Sandy Creek | At the confluence with Big Sandy Creek | None | +1537 | Unincorporated Areas of Preston County.
| Approximately 0.44 mile upstream of County Highway 8 | None | +1544
Little Wolf Creek | At the confluence with Wolf Creek | None | +1460 | Unincorporated Areas of Preston County.
| Approximately 300 feet upstream of County Highway 110 | None | +1596
Maple Run | Approximately 570 feet upstream of the confluence with Youghiogheny River | None | +2425 | Unincorporated Areas of Preston County.
| Approximately 0.9 mile upstream of County Highway 116/2 | None | +2645
Middle Run | At the confluence with Bull Run | None | +1329 | Unincorporated Areas of Preston County.
| Approximately 1.8 miles upstream of the confluence with Bull Run | None | +1724
Mill Run | At the confluence with Cherry Run | None | +1864 | Unincorporated Areas of Preston County.
| Approximately 1.6 miles upstream of the confluence with Mill Run Tributary 2 | None | +2387
Mill Run Tributary 1 | At the confluence with Mill Run | None | +1971 | Unincorporated Areas of Preston County.
| Approximately 1.2 miles upstream of the confluence with Mill Run | None | +2177
Mill Run Tributary 2 | At the confluence with Mill Run | None | +2054 | Unincorporated Areas of Preston County.
| Approximately 640 feet upstream of County Highway 112 | None | +2246
Piney Run | At the confluence with Cherry Run | None | +1843 | Unincorporated Areas of Preston County.
| Approximately 1.2 miles upstream of County Highway 5 | None | +1869
Saltlick Creek | At the confluence with the Cheat River | +1389 | +1399 | Town of Rowlesburg, Unincorporated Areas of Preston County.
| Approximately 0.7 mile upstream of F Road | None | +2000
Spruce Run | At the confluence with Saltlick Creek | None | +1580 | Unincorporated Areas of Preston County.
| Approximately 2.1 miles upstream of County Highway 86 | None | +1796
Swamp Run | At the confluence with Dillan Creek | None | +1701 | Unincorporated Areas of Preston County.
| Approximately 0.5 mile upstream of Herring Road | None | +1745
Wolf Creek | At the confluence with the Cheat River | None | +1449 | Unincorporated Areas of Preston County.
| Approximately 0.5 mile upstream of County Highway 110 | None | +1542
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Brandonville
Maps are available for inspection at the Brandonville Town Hall, 37 Poplar Street, Bruceton Mills, WV 26525.
Town of Masontown
Maps are available for inspection at Main Pharmacy, 160 Main Street, Masontown, WV 26542.
Town of Reedsville
Maps are available for inspection at the Town Hall, 207 South Robert Stone Way, Reedsville, WV 26547.
Town of Rowlesburg
Maps are available for inspection at the Community Building, 44 Poplar Street, Rowlesburg, WV 26425.
Unincorporated Areas of Preston County
Maps are available for inspection at the Preston County Office of Emergency Management, 103½ West Main Street, Kingwood, WV 26537.

(Catalog of Federal Domestic Assistance No. 97.022, “Flood Insurance.”)

Dated: December 10, 2010.
Sandra K. Knight,
Deputy Federal Insurance and Mitigation Administrator, Mitigation, Department of Homeland Security, Federal Emergency Management Agency.

[FR Doc. 2010-32702 Filed 12-28-10; 8:45 am]

BILLING CODE 9110-12-P